DEPARTMENT OF TRANSPORTATION

Federal Aviation Administration

14 CFR Part 39

[Docket No. 2000-NM-160-AD; Amendment 39-12302; AD 2001-13-20]

RIN 2120-AA64

Airworthiness Directives; Airbus Model A310, and Model A300 B4-600, A300 B4-600R, and A300 F4-600R (Collectively Called A300-600) Series Airplanes

AGENCY: Federal Aviation Administration, DOT.

ACTION: Final rule.

SUMMARY: This amendment supersedes an existing airworthiness directive (AD), applicable to certain Airbus Model A310 and A300-600 series airplanes, that currently requires a detailed visual inspection to detect damage to the terminal lugs on the 12XC and 15XE contactors and the mounting lugs on the 15XE contactor; corrective actions, if necessary; and certain conditional repetitive inspections. This action adds requirements for installation of a new mounting bracket for the 15XE contactor, modification of the cable attachment adjacent to the contactor, and replacement of certain terminal lugs on the 15XE contactor by terminal lugs with a thicker contact area. This amendment is prompted by issuance of mandatory continuing airworthiness information by a foreign civil airworthiness authority. The actions specified by this AD are intended to prevent excessive vibrations generated by the mounting configuration of the 15XE contactor, which could cause breakage of the terminal and mounting lugs on the 15XE contactors in the 101VU panel in the avionics compartment, resulting in loss of electrical power from the standby generator.

DATES: Effective August 10, 2001.

The incorporation by reference of certain publications listed in the regulations is approved by the Director of the Federal Register as of August 10, 2001.

The incorporation by reference of Airbus All Operators Telex 24-09, Revision 01, dated August 13, 1998, as listed in the regulations, was approved previously by the Director of the Federal Register as of October 27, 1999 (64 FR 51190, September 22, 1999).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 99-19-40, amendment 39-11327 (64 FR 51190, September 22, 1999), which is applicable to certain Airbus Model A310 and A300-600 series airplanes, was published in the Federal Register on February 15, 2001 (66 FR 10382). The action proposed to supersede AD 99-19-40 to continue to require a detailed visual inspection to detect damage to the terminal lugs on the 12XC and 15XE contactors and the mounting lugs on the 15XE contactor; and corrective action, if necessary. The action proposed to add requirements for installation of a new mounting bracket for the 15XE contactor, modification of the cable attachment adjacent to the contactor, and replacement of certain terminal lugs on the 15XE contactor with lugs having a thicker contact area.

Comments

Interested persons have been afforded an opportunity to participate in the making of this amendment. Due consideration has been given to the single comment received.

The commenter points out a typographical error that occurs throughout the proposed rule. The proposed rule incorrectly calls the 12XC and 15XE “connectors” instead of “contactors.” This final rule has been changed to correctly reference these parts as “contactors.”

Conclusion

After careful review of the available data, including the comment noted above, the FAA has determined that air safety and the public interest require the adoption of the rule with the change previously described. The FAA has determined that this change will neither increase the economic burden on any operator nor increase the scope of the AD.

Cost Impact

There are approximately 109 airplanes of U.S. registry that will be affected by this AD. The following information describes the estimated cost impact on U.S. operators of this AD action:

Action | Work hours | Hourly labor rate | Parts cost | Per-airplane cost | Fleet cost
Inspection | 2 | $60 | $0 | $120 | $13,080
Modification | 5 | 60 | 490 | 790 | 86,110

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11327 (64 FR 51190, September 22, 1999), and by adding a new airworthiness directive (AD), amendment 39-12302, to read as follows:

2001-13-20 Airbus Industrie: Amendment 39-12302. Docket 2000-NM-160-AD. Supersedes AD 99-19-40, Amendment 39-11327.

Applicability: The following airplanes, certificated in any category, and equipped with a standby generator (FIN 25XE); excluding airplanes on which Airbus Modification 12135 has been accomplished:

Model A300 B4-600, A300 B4-600R and Model A300 F4-600R (collectively called A300-600) series airplanes on which Airbus Modification 06213 has been installed; and

Model A310 series airplanes on which Airbus Modification 05910 has been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent excessive vibrations generated by the mounting configuration of the 15XE contactor, which could cause breakage of the terminal and mounting lugs on the 15XE contactor in the 101VU panel in the avionics compartment, resulting in loss of electrical power from the standby generator, accomplish the following:

Restatement of Certain Actions Required by AD 99-19-40

Inspection and Corrective Actions

(a) Prior to the accumulation of 5,000 total flight hours, or within 600 flight hours after the effective date of this AD, whichever occurs later: Accomplish the actions required by paragraphs (a)(1) and (a)(2) of this AD in accordance with Airbus All Operators Telex (AOT) 24-09, Revision 01, dated August 13, 1998.

(1) Perform a detailed visual inspection of the terminal lugs on the 12XC and 15XE contactors to detect damage (i.e., overheat, cracking, twisting, or total rupture). If any damage is detected, prior to further flight, replace the terminal lugs with new terminal lugs, part number (P/N) NSA936501TA1004.

(2) Perform a detailed visual inspection of the mounting lugs on the 15XE contactor to detect damage (i.e., cracking or breaking). If any damage is detected, prior to further flight, accomplish the requirements of either paragraph (a)(2)(i) or (a)(2)(ii) of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(i) Replace contactor 15XE with a new contactor, P/N 25811BOSHUNTKL, vendor code F0214 ECE. Or,

(ii) Repair contactor 15XE in accordance with Airbus AOT 24-09, Section 4.2.2.3. Repeat the detailed visual inspection required by paragraph (a)(2) of this AD of the repaired contactor thereafter at intervals not to exceed 1 week, and repeat the repair with new cable ties thereafter at intervals not to exceed 3 months, until the replacement required by paragraph (a)(2)(i) of this AD is accomplished.

New Actions Required by This AD

Installation

(b) Within 20 months after the effective date of this AD, install a new mounting bracket for the 15XE contactor, modify the cable attachment adjacent to the contactor, and replace certain terminal lugs with lugs having a thicker contact area, in accordance with Airbus Service Bulletin A310-24-2080 (for Model A310 series airplanes) or A300-24-6070 (for Model A300-600 series airplanes), both dated December 15, 1999, as applicable.

Replacement

(c) Continue the detailed visual inspection of a repaired 15XE contactor which is required by paragraph (a)(2)(ii) of this AD at intervals not to exceed 1 week, and continue the repair with new cable ties at intervals not to exceed 3 months, until the repaired 15XE contactor is replaced by a new 15XE contactor.

Alternative Methods of Compliance

(d) An alternative method of compliance or adjustment of the compliance time that provides an acceptable level of safety may be used if approved by the Manager, International Branch, ANM-116, FAA Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Airbus All Operators Telex 24-09, Revision 01, dated August 13, 1998; Airbus Service Bulletin A300-24-6070, dated December 15, 1999; and Airbus Service Bulletin A310-24-2080, dated December 15, 1999.

(1) The incorporation by reference of Airbus Service Bulletin A300-24-6070, dated December 15, 1999; and Airbus Service Bulletin A310-24-2080, dated December 15, 1999; is approved by the Director of the Federal Register in accordance with 5 U.S.C. 552(a) and 1 CFR part 51.

(2) The incorporation by reference of Airbus All Operators Telex 24-09, Revision 01, dated August 13, 1998, was approved previously by the Director of the Federal Register as of October 27, 1999 (64 FR 51190, September 22, 1999).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-145-306(B), dated April 5, 2000.

Effective Date

(g) This amendment becomes effective on August 10, 2001.

Issued in Renton, Washington, on June 26, 2001.
Vi L. Lipski,
Manager, Transport Airplane Directorate, Aircraft Certification Service.

[FR Doc. 01-16737 Filed 7-5-01; 8:45 am]

BILLING CODE 4910-13-U